DEPARTMENT OF HOMELAND SECURITY

Coast Guard

[Docket Number USCG-2021-0183]

Draft Programmatic Environmental Impact Statement; Expansion and Modernization of Base Seattle

AGENCY: Coast Guard, DHS.

ACTION: Notice of availability for Draft Programmatic Environmental Impact Statement; Expansion and Modernization of Base Seattle; extension of comment period.

SUMMARY: The Coast Guard is extending the comment period by two weeks for the Draft Programmatic Environmental Impact Statement (PEIS) for the proposed Expansion and Modernization of Base Seattle. Notice of Availability of the Draft PEIS was published on October 11, 2022 to invite public comments on the Draft PEIS. We are extending the comment period through December 16, 2022.

DATES: The deadline for the comments period for the notice of availability published on October 11, 2022 (87 FR 61344) is extended. Comments and related material must be post-marked or received by the Coast Guard on or before December 16, 2022.

ADDRESSES: The PEIS can be reviewed at https://www.dcms.uscg.mil/Our-Organization/Assistant-Commandant-for-Engineering-Logistics-CG-4-/Program-Offices/Environmental-Management/Environmental-Planning-and-Historic-Preservation/. Comments can be submitted to docket number USCG-2021-0183 using the Federal eRulemaking Portal at https://www.regulations.gov/. See the “Public Participation and Request for Comments” portion of the SUPPLEMENTARY INFORMATION section for further instructions on submitting comments.

FOR FURTHER INFORMATION CONTACT: Requests for additional information should be sent to Dean Amundson, Coast Guard; telephone 510-637-5541, BaseSeattlePEIS@uscg.mil.

SUPPLEMENTARY INFORMATION: Pursuant to section 102 (2)(c) of the National Environmental Policy Act (NEPA) of 1969, sections 4321 et seq. of title 42 United States Code, and Council on Environmental Quality regulations (sections 1500-1508 of title 40 of the Code of Federal Regulations (CFR); CEQ), the Coast Guard published a notice of availability of a Draft PEIS for public comment in the Federal Register on October 11, 2022 (87 FR 61344). The Coast Guard received a public comment request to extend the comment period on the original notice of availability. The Coast Guard is extending the comment period in response to this request. The comment period would have concluded on December 2, 2022. The comment period is now open through December 16, 2022. For more detailed information, please see the original notice titled “Notice of Availability for Draft Programmatic Environmental Impact Statement Expansion and Modernization of Base Seattle, and request for comments” published on October 11, 2022 (87 FR 61344). A copy of that notice is also available in the docket.

I. Public Participation and Comments

The Coast Guard invites you to review the Draft PEIS. The Coast Guard will consider all submissions and may adjust our final analysis and decision based on your comments. If you submit a comment, please include the docket number for this notice, indicate the specific section of this document to which each comment applies, and provide a reason for each suggestion or recommendation.

Submitting Comments: You may submit comments on the Draft PEIS by one of the following methods:

• Via the Web: You may submit comments identified by docket number USCG-2021-0183 using the Federal eRulemaking Portal at https://www.regulations.gov.

• Via U.S. Mail: U.S. Coast Guard, Shore Infrastructure Logistics Center, Environmental Management Division, Attn: Mr. Dean Amundson, 1301 Clay Street, Suite 700N, Oakland, CA 94612-5203. Please note that mailed comments must be post-marked on or before the comment deadline of December 16, 2022.

Before including your address, phone number, email address, or other personal identifying information in your comment, you should be aware that your entire comment—including your personal identifying information—may be made publicly available in the docket.

Upon the completion of public comment period, the Coast Guard will prepare comment responses and publish its Final PEIS. This notice is issued under authority of NEPA, specifically in compliance with 42 U.S.C. 4332(2)(C) and CEQ implementing regulations in 40 CFR parts 1500 through 1508.

Dated: November 22, 2022.
C.J. List,
Assistant Commandant for Engineering and Logistics, Rear Admiral, U.S. Coast Guard.

[FR Doc. 2022-25825 Filed 11-25-22; 8:45 am]

BILLING CODE 9110-04-P